DEPARTMENT OF LABOR

Employment and Training Administration

[TA-W-64,221]

Hella Electronics Corporation, Including Workers of Hella Corporate Center, USA, Formerly Known as Hella North America, Including On-Site Leased Workers from Westaff, Flora, IL; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 9, 2009, applicable to workers of Hella Electronics Corporation, Flora, Illinois, including on-site leased workers from Westaff. The notice was published in the Federal Register on February 2, 2009 (74 FR 5870).

At the request of the State agency, the Department reviewed the certification for workers of the subject firm. The workers produce sensors and relays such as accelerator pedal sensors, washer pumps and various other electronics for automobiles.

The intent of the Department's certification is to include all workers of the subject firm adversely affected by the shift in production of accelerator pedal sensors, washer pumps and various other electronics for automobiles to Mexico.

New information shows that the worker group included workers of Hella Corporate Center, USA, formerly known as Hella North America. The Department has determined that these workers were not separately identifiable from the workers of Hella Electronics Corporation.

Based on these findings, the Department is amending this certification to include workers of Hella Corporate Center, USA, formerly known as Hella North America working at the Flora, Illinois location of the subject firm.

The amended notice applicable to TA-W-64,221 is hereby issued as follows:

“All workers of Hella Electronics Corporation, including workers of Hella Corporate Center, USA, formerly known as Hella North America, including on-site leased workers from Westaff, Flora, Illinois, who became totally or partially separated from employment on or after October 13, 2007, through January 9, 2011, are eligible to apply for adjustment assistance under Section 223 of the Trade Act of 1974, and are also eligible to apply for alternative trade adjustment assistance under Section 246 of the Trade Act of 1974.”

Signed at Washington, DC, this 6th day of May 2009.
Richard Church,
Certifying Officer, Division of Trade Adjustment Assistance.

[FR Doc. E9-14067 Filed 6-15-09; 8:45 am]

BILLING CODE 4510-FN-P